DEPARTMENT OF HOMELAND SECURITY

Coast Guard

[Docket No. USCG-2012-0645]

Towing Safety Advisory Committee

AGENCY: Coast Guard, DHS.

ACTION: Committee Management; Notice of Open Teleconference Federal Advisory Committee Meeting.

SUMMARY: The Towing Safety Advisory Committee (TSAC) will meet via teleconference to review and discuss a new Task Statement titled “Recommendations for Safety Standards of Portable Facility Vapor Control Systems” and to discuss the progress of open Task Statements. This meeting will be open to the public.

DATES: The teleconference meeting will take place on Thursday, July 26, 2012, from 11 a.m. to 12:30 p.m. EST. This meeting may close early if all business is finished. Oral comments may be made at the July 26 meeting, but requests to make oral presentations and the submission of written comments are due by July 16, 2012.

ADDRESSES: The Committee will meet via telephone conference, on July 26, 2012. The Public may participate by contacting the DFO and obtaining the telephone number to call in. Please contact the DFO as listed below in the FOR FURTHER INFORMATION CONTACT section to obtain teleconference information; however, the number of teleconference lines is limited and available on a first come first served basis. Members of the public may also participate by coming to Room 5-1224, U.S. Coast Guard Headquarters Building, 2100 Second Street SW., Washington, DC 20593. You must present a valid, government-issued photo identification to gain entrance to the Coast Guard Headquarters building. Requests to make oral presentations should be sent to Commander Rob Smith, Designated Federal Officer (DFO) of TSAC, Commandant (CG-OES-2), 2100 Second Street SW., Stop 7126, Washington, DC 20593-7126 or by fax to 202-372-1926 on or before July 16, 2012.

For information on facilities or services for individuals with disabilities or to request special assistance at the teleconference, contact the individuals listed in the FOR FURTHER INFORMATION CONTACT section, as soon as possible.

To facilitate public participation we are inviting public comment on the issues to be considered by the committee as listed in the “Agenda” section below. You may submit a written comment on or before July 16, 2012 or an oral comment during the public comment portion of the meeting.

Comments in writing must be submitted no later than July 16, 2012, and must be identified by USCG-2012-0645 and may be submitted by one of the following methods:

• Federal eRulemaking Portal: http://www.regulations.gov. Follow the instructions for submitting comments.

• Email: Patrick.J.Mannion@uscg.mil. Include the docket number (USCG-2012-0645) in the subject line of the message.

• Fax: (202) 372-1926

• Mail: Docket Management Facility (M-30), U.S. Department of Transportation, West Building Ground Floor, Room W12-140, 1200 New Jersey Avenue SE., Washington, DC 20590-0001.

• Hand Delivery: Same as mail address above, between 9 a.m. and 5 p.m., Monday through Friday, except Federal holidays. The telephone number is 202-366-9239.

Instructions: All submissions received must include the words “Department of Homeland Security” and the docket number of this action. All comments submitted will be posted on www.regulations.gov without alteration and will contain any personal information you provided. You may review a Privacy Act notice regarding our public dockets in the January 17, 2008, issue of the Federal Register (73 FR 3316).

Docket: For access to the docket to read documents or comments related to this notice, go to www.regulations.gov. During the July 26th meeting, we will have a public comment period from 12:00 to 12:30 p.m. Speakers are requested to limit their comments to 3 minutes. Please note that the public comment period may end before the time indicated, if everyone present who wishes to has spoken. Please contact the individuals listed in the FOR FURTHER INFORMATION CONTACT section to register as a speaker.

FOR FURTHER INFORMATION CONTACT: Commander Rob Smith, Designated Federal Officer (DFO) of TSAC, or Mr. Patrick Mannion, Alternate Designated Federal Officer (ADFO), telephone 202-372-1439, fax 202-372-1926. If you have any questions on viewing or submitting material to the docket, call Renee V. Wright, Program Manager, Docket Operations, telephone 202-366-9826.

SUPPLEMENTARY INFORMATION: Notice of this meeting is given under the Federal Advisory Committee Act (FACA), 5 U.S.C. App. (Pub. L. 92-463). The Towing Safety Advisory Committee provides advice and recommendations to the Department of Homeland Security on matters relating to shallow-draft inland and coastal waterway navigation and towing safety. See 33 U.S.C. 1231a.

Agenda of Meeting

The agenda for the Thursday, July 26, 2012 Committee meeting is as follows:

(1) Administrative functions.

(2) Presentation and discussion of interim reports and recommendations on:

(a) TASK 01-12, “Recommendations for the Prevention of Towing Vessel Crewmember Falls Overboard.”

(b) TASK 02-12, “Review and Recommendations for the Revision of NVIC 1-95, Voluntary Training Standards for Entry-Level Personnel on Towing Industry Vessels.”

(c) TASK 03-12, “Recommendations for the Enhancement of Towing Vessel Stability.”

(3) Issuance of new Task Statement “Recommendations for Safety Standards of Portable Facility Vapor Control Systems.”

(4) Period for public comment.

Minutes

Minutes from the meeting will be available for public review and copying within 30 days following the meeting at the http://fido.gov/facadatabase/ Web site. The meeting minutes may be accessed via this Web site by clicking “Public Access”, then “Explore Data” and typing “704” in the “Committee Quick Find” box. Once you have accessed the Committee page, click on the meetings tab and then the “View” button for the meeting dated July 26, 2012, to access the information for this meeting. Minutes and documents applicable for this meeting can also be found at an alternative site using the following web address: https://homeport.uscg.mil; select these options: Missions>Port and Waterways>Safety Advisory Committee>TSAC>Meetings/Minutes or>Task Statements.

Dated: July 5, 2012.
J.G. Lantz,
Director of Commercial Regulations and Standards.

[FR Doc. 2012-16896 Filed 7-10-12; 8:45 am]

BILLING CODE 9110-04-P